DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on December 3-4, 2007 in Chart Room at the Radisson Bay Harbor Hotel Tampa, 7700 Courtney Campbell Causeway, Tampa, Florida. On December 3, the session will convene at 8 a.m. and end at 4 p.m. and on December 4, the session will convene at 8 a.m. and end at 2:30 p.m. The meeting is open to the public.

The purpose of the Committee is to provide the Secretary of Veterans Affairs with an on-going assessment of the effectiveness of the policies, organizational structures, and services of the Department in assisting homeless veterans. The Committee shall assemble and review information relating to the needs of homeless veterans and provide advice on the most appropriate means of offering assistance to homeless veterans. The Committee will make recommendations to the Secretary regarding such activities.

On December 3, the Committee will review the responses to the Advisory Committee on Homeless Veterans 2007 Report and receive information and reports from the Department of Veterans Affairs and other federal departments.

On December 4, the Committee will continue to receive reports and begin preparation of its upcoming annual report and recommendations to the Secretary.

Those wishing to attend the meeting should contact Mr. Pete Dougherty, Designated Federal Officer, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 5, 2007.
By Direction of the Secretary
E. Phillip Riggin,
Committee Management Officer.

[FR Doc. 07-5600 Filed 11-08-07; 8:45 am]

BILLING CODE 8320-07-M